DEPARTMENT OF DEFENSE

Department of the Army

Committee Meeting Cancellation Notice

AGENCY: United States Army School of the Americas (USARSA), Training and Doctrine Command (TRADOC), U.S. Army, DoD.

ACTION: Notice; withdrawal.

SUMMARY: This document withdraws from consideration the Committee Meeting Notice published in the Federal Register on August 14, 2000 (Vol. 65, No. 157) page 49549. Reason for withdrawal is based on a scheduling conflict on the part of the Commanding General of the U.S. Army Training and Doctrine Command, Gen. John N. Abrams. The meeting of the Subcommittee (Board of Visitors) of the Army Education Advisory Committee dealing with the U.S. Army School of the Americas (USARSA), scheduled for August 22—24 has been cancelled. A date for the rescheduled meeting will be announced at a later time.

FOR FURTHER INFORMATION CONTACT: All communications regarding this subcommittee should be addressed to LTC Bruce T. Gridley, U.S. Army School of the Americas, ATTN: ATZB-SAZ-CS, Ft. Benning, Georgia 31905-6245.

SUPPLEMENTARY INFORMATION: None.

Gregory D. Showalter,
Army Federal Register Liaison Officer.

[FR Doc. 00-21422 Filed 8-18-00; 8:45 am]

BILLING CODE 3710-08-P